DEPARTMENT OF EDUCATION

Office of Elementary and Secondary Education; Overview Information; Smaller Learning Communities Program; Notice Inviting Applications for New Awards Using Fiscal Year (FY) 2005 Funds

Catalog of Federal Domestic Assistance (CFDA) Number: 84.215L.

Dates:

Applications Available: April 26, 2006.

Deadline for Notice of Intent to Apply: May 26, 2006.

Deadline for Transmittal of Applications: June 26, 2006.

Deadline for Intergovernmental Review: August 24, 2006.

Eligible Applicants: Local educational agencies (LEAs), including educational service agencies and schools funded by the Bureau of Indian Affairs (BIA), applying on behalf of large public high schools, are eligible to apply for a grant.

Additional eligibility requirements are listed elsewhere in this notice under section III. Eligibility Information.

Estimated Available Funds: $86,954,000. The Department assumes that funds will be sufficient to provide the first 3 years of funding (36 months) for each grantee from funds available for this compeition. Funding to cover the remaining 24 months will be contingent on the availability of funds and each grantee's substantial progress toward accomplishing the goals and objectives of the project as described in its approved application. Contingent upon the availability of funds and quality of applications, we may make additional awards in a subsequent fiscal year, using FY 2006 funds, based on the list of unfunded applicants from this competition. Additional information regarding awards and budgets is provided elsewhere in this notice under section II. Award Information.

Estimated Range of Awards: See section II. Award Information, elsewhere in this notice.

Estimated Size of Award: See section II. Award Information, elsewhere in this notice.

Maximum Award: See section II. Award Information, elsewhere in this notice.

Estimated Number of Awards: 72.

Note: The Department is not bound by any estimates in this notice.

Project Period: Up to 60 months.

Full Text of Announcement

I. Funding Opportunity Description

Purpose of Program: Authorized under title V, part D, subpart 4, section 5441 of the Elementary and Secondary Education Act of 1965, as amended (ESEA), the purpose of the Smaller Learning Communities (SLC) program is to promote academic achievement through the creation or expansion of small, safe, and successful learning environments in large public high schools to help ensure that all students graduate with the knowledge and skills necessary to make successful transitions to college and careers.

Priority: This priority is from the notice of final priority, requirements, definitions, and selection criteria (NFP) for this program, published in the Federal Register on April 28, 2005 (70 FR 22233).

Absolute Priority: For this competition and any subsequent year in which we make awards based on the list of unfunded applicants from this competition, this priority is an absolute priority. Under 34 CFR 75.105(c)(3) we consider only applications that meet this priority.

This priority is:

Helping All Students to Succeed in Rigorous Academic Courses.

This priority supports projects to create or expand SLCs that will implement a coherent set of strategies and interventions that are designed to ensure that all students who enter high school with reading/language arts and mathematics skills that are significantly below grade level “catch up” quickly so that, by no later than the end of the 10th grade, they have acquired the reading/language arts and mathematics skills they need to participate successfully in rigorous academic courses that will equip them with the knowledge and skills necessary to transition successfully to postsecondary education, apprenticeships, or advanced training.

These accelerated learning strategies and interventions must—

(1) Be grounded in the findings of scientifically based and other rigorous research;

(2) Include the use of age-appropriate instructional materials and teaching and learning strategies;

(3) Provide additional instruction and academic support during the regular school day, which may be supplemented by instruction that is provided before or after school, on weekends, and at other times when school is not in session; and

(4) Provide sustained professional development and ongoing support for teachers and other personnel who are responsible for delivering instruction.

Application Requirements

In the NFP, published in the Federal Register on April 28, 2005 (70 FR 22233), we established application requirements in the following areas for competitions conducted under this program: Eligibility; School Report Cards; Types of Grants; Consortium Applications and Educational Service Agencies; Student Placement; Including All Students; Budget Information for Determination of Award; Performance Indicators; Evaluation; High-Risk Status and Other Enforcement Mechanisms; Required Meetings Sponsored by the Department; and Previous Grantees.

These requirements are in addition to the content that all SLC grant applicants must include in their applications as required by the program statute in title V, part D, subpart 4, section 5441(b) of the ESEA.

In this competition, we will not be using the Types of Grants requirement. We have incorporated the terms of the remaining requirements under appropriate sections of this notice (e.g., the Eligibility requirement is listed in section III. Eligibility Information, elsewhere in this notice).

Definitions

In addition to the definitions in the authorizing statute and 34 CFR 77.1, the following definitions also apply to this program:

BIA School means a school operated or supported by the Bureau of Indian Affairs.

Large High School means a public school that includes grades 11 and 12 and has an enrollment of 1,000 or more students in grades 9 and above.

Smaller Learning Community (SLC) means an environment in which a core group of teachers and other adults within the school knows the needs, interests, and aspirations of each student well, closely monitors each student's progress, and provides the academic and other support each student needs to succeed.

Program Authority: 20 U.S.C. 7249.

Applicable Regulations: (a) The Education Department General Administrative Regulations (EDGAR) in 34 CFR parts 75, 77, 79, 80, 81, 82, 84, 85, 97, 98, and 99. (b) The NFP published in the Federal Register on April 28, 2005 (70 FR 22233).

Note: The regulations in 34 CFR part 79 apply to all applicants except federally recognized Indian tribes.

II. Award Information

Type of Award: Discretionary grants.

Estimated Available Funds: $86,954,000. The Department assumes that funds will be sufficient to provide the first 3 years of funding (36 months) for each grantee from funds available for this compeition. Funding to cover the remaining 24 months will be contingent on the availability of funds and each grantee's substantial progress toward accomplishing the goals and objectives of the project as described in its approved application. Contingent upon the availability of funds and quality of applications, we may make additional awards in a subsequent year, using FY 2006 funds, based on the list of unfunded applicants from this competition.

Estimated Range of Awards: $650,000 to $11,750,000. The following chart provides the ranges of awards per high school size for 60-month SLC grants:

SLC Grant Award Ranges
Student enrollment | Award ranges per school
1,000-2,000 Students | $650,000-$800,000
2,001-3,000 Students | 650,000-925,000
3,001-4,000 Students | 650,000-1,050,000
4,001 and Up | 650,000-1,175,000

Estimated Size of Award: LEAs may receive, on behalf of a single school, up to $1,175,000, depending upon the size of the school. This award is for the full 60-month project period. LEAs applying on behalf of a group of eligible schools could receive up to $11,750,000 per grant. To ensure that sufficient funds are available to support SLC activities, LEAs may not include more than 10 schools in a single application for a grant. The actual size of awards will be based on a number of factors. These factors include the scope, quality, and comprehensiveness of the proposed project and the range of awards indicated in the application.

Maximum Award: Applications that request more funds than the maximum amounts specified (in the chart) for any school or for the total grant will not be read as part of the regular application process. However, if, after the Secretary selects applications to be funded, it appears that additional funds remain available, the Secretary may choose to read those additional applications that requested funds exceeding the maximum amounts specified. If the Secretary chooses to fund any of those additional applications, applicants will be required to work with the Department to revise their proposed budgets to fit within the appropriate funding range.

Estimated Number of Awards: 72.

Note: The Department is not bound by any estimates in this notice.

Project Period: Up to 60 months.

III. Eligibility Information

1. Eligible Applicants: Local educational agencies (LEAs), including educational service agencies and schools funded by the Bureau of Indian Affairs (BIA), applying on behalf of large public high schools, are eligible to apply for a grant.

An LEA that was awarded an implementation grant on behalf of a school under the original SLC program competition held in 2000 (Cohort 1), under the second competition held in 2002 (Cohort 2), or under the third competition held in 2003 (Cohort 3) may apply on behalf of the school for a second SLC grant under the terms contained in the NFP. LEAs would not be able to apply for funding on behalf of schools that received an SLC implementation grant under the competitions held in 2004 (Cohort 4) and 2005 (Cohort 5).

To be considered for funding, LEAs must identify in their applications the name or names of the eligible large high school or schools and the number of students enrolled in each school. A large high school is defined as one having grades 11 and 12, with 1,000 or more students enrolled in grades 9 and above. Enrollment figures must be based upon data from the current school year or data from the most recently completed school year. We will not accept applications from LEAs applying on behalf of schools that are being constructed and do not have an active student enrollment at the time of application. LEAs may apply on behalf of no more than 10 schools.

In an effort to encourage systemic, district-level reform efforts, we permit an individual LEA to submit only one grant application in a competition, specifying in each application which high schools the LEA intends to fund.

In addition, we require that an LEA applying for a grant under this competition apply only on behalf of a high school or high schools for which it has governing authority, unless the LEA is an educational service agency that includes in its application evidence that the entity that has governing authority over the eligible high school supports the application. An LEA, however, may form a consortium with another LEA and submit a joint application for funds. The consortium must follow the procedures for group applications described in 34 CFR 75.127 through 75.129 in EDGAR.

An LEA is eligible for only one grant whether the LEA applies independently or as part of a consortium.

2. Cost Sharing or Matching: This competition does not involve cost sharing or matching.

IV. Application and Submission Information

1. Address To Request Application Package: You may obtain an application package via the Internet or from the Education Publications Center (ED Pubs). To obtain a copy via the Internet use the following addresses: http://www.grants.gov or http://www.ed.gov/programs/slcp/applicant.html. To obtain a copy from ED Pubs, write or call the following: ED Pubs, P.O. Box 1398, Jessup, MD 20794-1398. Telephone (toll free): 1-877-433-7827. Fax: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.215L.

Individuals with disabilities may obtain a copy of the application package in an alternative format (e.g., Braille, large print, audiotape, or computer diskette) by contacting Deborah Williams, U.S. Department of Education, 400 Maryland Avenue, SW., room 3W241, Washington, DC 20202-6200. Telephone: (202) 205-3783 or by e-mail: deborah.williams@ed.gov.

2. Content and Form of Application Submission: All SLC grant applicants must include in their applications the information required by the program statute in title V, part D, subpart 4, section 5441(b) of the ESEA. Applicants also must meet the following requirements:

(a) School Report Cards. We require that LEAs provide, for each school included in the application, the most recent “report card” produced by the State or the LEA to inform the public about the characteristics of the school and its students, including information about student academic achievement and other student outcomes. These “report cards” must include, at a minimum, the following information that LEAs are required to report for each school under section 1111(h)(2)(B)(ii) of the ESEA: (1) Whether the school has been identified for school improvement; and (2) information that shows how the academic assessments and other indicators of adequate yearly progress compare to those indicators for students in the LEA as a whole and also shows the performance of the school's students on statewide assessments.

(b) Student Placement. We require applicants for SLC grants to include a description of how students will be selected or placed in an SLC and an assurance that students will not be placed according to ability or any other measure, but will be placed at random or by student/parent choice and not pursuant to testing or other judgments.

(c) Including All Students. We require applicants for grants to create or expand an SLC project that will include every student within the school by no later than the end of the fifth school year of implementation. Elsewhere in this notice, we define an SLC as an environment in which a group of teachers and other adults within the school knows the needs, interests, and aspirations of each student well, closely monitors each student's progress, and provides the academic and other support each student needs to succeed.

(d) Performance Indicators. We require applicants to identify in their application specific performance indicators and annual performance objectives for each of these indicators. Specifically, we require applicants to use the following performance indicators to measure the progress of each school:

(1) The percentage of students who score at the proficient and advanced levels on the reading/language arts and mathematics assessments used by the State to determine whether a school has made adequate yearly progress under part A of title I of the ESEA, as well as these percentages disaggregated by subject matter and the following subgroups:

(A) Major racial and ethnic groups.

(B) Students with disabilities.

(C) Students with limited English proficiency.

(D) Economically disadvantaged students.

(2) The school's graduation rate, as defined in the State's approved accountability plan for part A of title I of the ESEA.

(3) The percentage of graduates who enroll in postsecondary education, apprenticeships, or advanced training for the semester following graduation.

(4) The percentage of graduates who are employed by the end of the first quarter after they graduate (e.g., for students who graduate in May or June, this would be September 30).

(5) Other appropriate indicators the LEA may choose to identify in its application, such as rates of average daily attendance and year-to-year retention; achievement and gains in English proficiency of limited English proficient students; the incidence of school violence, drug and alcohol use, and disciplinary actions; or the percentage of students completing advanced placement courses and the rate of passing advanced placement tests (such as Advanced Placement and International Baccalaureate) and courses for college credit.

Applicants are required to include in their applications baseline data for each of these indicators and identify performance objectives for each year of the project period. We further require recipients of grants to report annually on the extent to which each school achieves its performance objectives for each indicator during the preceding school year. We require grantees to report comparable data, if available, for the preceding three school years so that trends in performance will be more apparent.

Grantees must submit this additional data using the Department's SLC electronic reporting Web site within three months after awards are made.

(e) Evaluation. We require each applicant to provide assurances that it will support an evaluation of the project that provides information to the project director and school personnel, and that will be useful in gauging the project's progress and in identifying areas for improvement. Each evaluation must include an annual report for each of the first four years of the project period and a final report that would be completed at the end of the fifth year of implementation and that will include information on implementation during the fifth year as well as information on the implementation of the project across the entire project period. We require grantees to submit each of these reports to the Department.

In addition, we require that the evaluation be conducted by an independent third party, selected by the applicant, whose role in the project is limited to conducting the evaluation.

(f) Required Meetings Sponsored by the Department. Applicants must set aside adequate funds within their proposed budget to send their project director to a two-day project directors' meeting in Washington, DC, and to send a team of five key staff members, including their external evaluator, to attend a two-and-a-half-day Regional Institute. The Department will host both meetings. We anticipate that the meetings will be held in the first year of the grant period.

(g) Additional Requirements. Additional requirements concerning the content of an application for this program, together with the forms you must submit, also are in the application package for this competition.

Page limit: The application narrative is where you, the applicant, address the selection criteria that reviewers use to evaluate your application. We encourage you to limit the narrative to the equivalent of no more than 25 pages and suggest that you use the following standards:

• A “page” is 8.5 x 11, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The suggested page limit does not apply to the forms, budget section, budget justification, assurances and certifications, one-page abstract, endnotes, school report cards, or resumes. However, you must include all of the application narrative in the narrative section.

3. Submission Dates and Times:

Applications Available: April 26, 2006.

Deadline for Notice of Intent to Apply: May 26, 2006.

Deadline for Transmittal of Applications: June 26, 2006.

Applications for grants under this competition must be submitted electronically using the Grants.gov Apply site (Grants.gov). For information (including dates and times) about how to submit your application electronically or by mail or hand delivery if you qualify for an exception to the electronic submission requirement, please refer to section IV.6. Other Submission Requirements in this notice.

We do not consider an application that does not comply with the deadline requirements.

Deadline for Intergovernmental Review: August 24, 2006.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition must be submitted electronically unless you qualify for an exception to this requirement in accordance with the instructions in this section.

a. Electronic Submission of Applications.

Applications for grants under the Smaller Learning Communities Program-CFDA Number 84.215L must be submitted electronically using the Grants.gov Apply site at: http://www.grants.gov. Through this site, you will be able to download a copy of the application package, complete it offline, and then upload and submit your application. You may not e-mail an electronic copy of a grant application to us.

We will reject your application if you submit it in paper format unless, as described elsewhere in this section, you qualify for one of the exceptions to the electronic submission requirements and submit, no later than two weeks before the application deadline date, a written statement to the Department that you qualify for one of these exceptions. Further information regarding calculation of the date that is two weeks before the application deadline date is provided later in this section under Exception to Electronic Submission Requirement.

You may access the electronic grant application for the Smaller Learning Communities Program at: http://www.grants.gov. You must search for the downloadable application package for this program by the CFDA number. Do not include the CFDA number s alpha suffix in your search.

Please note the following:

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education submission Procedures pertaining to Grants.gov at http://e-Grants.ed.gov/help/GrantsgovSubmissionProcedures.pdf.

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to submit an application successfully via Grants.gov.

• You will not receive additional point value because you submit your application in electronic format, nor will we penalize you if you qualify for an exception to the electronic submission requirement, as described elsewhere in this section, and submit your application in paper format.

• You must submit all documents electronically, including all information typically included on the Application for Federal Education Assistance (ED 424), Budget Information—Non-Construction Programs (ED 524), and all necessary assurances and certifications. You must attach any narrative sections of your application as files in a .DOC (document), .RTF (rich text), or .PDF (Portable Document) format. If you upload a file type other than the three file types specified above or submit a password protected file, we will not review that material.

• Your electronic application must comply with any page-limit requirements described in this notice.

• After you electronically submit your application, you will receive an automatic acknowledgement from Grants.gov that contains a Grants.gov tracking number. The Department will retrieve your application from Grants.gov and send you a second confirmation by e-mail that will include a PR/Award number (an ED-specified identifying number unique to your application).

• We may request that you provide us original signatures on forms at a later date.

Application Deadline Date Extension in Case of Technical Issues with the Grants.gov System: If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under For Further Information Contact, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Deborah Williams, U.S. Department of Education, 400 Maryland Avenue, SW., room 3W241, Washington, DC 20202-6200. Fax: (202) 260-8969.

Your paper application must be submitted in accordance with the mail or hand delivery instructions described in this notice.

b. Submission of Paper Applications by Mail.

If you qualify for an exception to the electronic submission requirement, you may mail (through the U.S. Postal Service or a commercial carrier), your application to the Department. You must mail the original and two copies of your application, on or before the application deadline date, to the Department at the applicable following address:

By mail through the U.S. Postal Service: U.S. Department of Education, Application Control Center, Attention: (CFDA Number 84.215L), 400 Maryland Avenue, SW., Washington, DC 20202-4260,

or

By mail through a commercial carrier: U.S. Department of Education, Application Control Cente—Stop 4260, Attention: (CFDA Number 84.215L), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.215L), 550 12th Street SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The following selection criteria will be used to evaluate applications for new grants under this program. These selection criteria are from the NFP, published in the Federal Register on April 28, 2005 (70 FR 22233).

Note: The maximum score for a grant under this program is 100 points. The points or weights assigned to each criterion and sub-criterion are indicated in parentheses.

Need for the Project (10 Points)

In determining the need for the proposed project, we consider the extent to which the applicant will—

Assist schools that have the greatest need for assistance, as indicated by, relative to other high schools within the State, one or more of the factors below:

(A) Student performance on the academic assessments in reading/language arts and mathematics administered by the State under part A, title I of the ESEA, including gaps in the performance of all students and that of student subgroups, such as economically disadvantaged students, students from major racial and ethnic groups, students with disabilities, or students with limited English proficiency.

(B) The school's dropout rate and gaps in the graduation rate between all students and student subgroups.

(C) Disciplinary actions.

(D) The percentage of graduates who enroll in postsecondary education, apprenticeships, or advanced training in the semester following graduation, and gaps between all students and student subgroups.

Foundation for Implementation (20 Points)

In determining the quality of the implementation plan for the proposed project, we consider the extent to which—

(1) (5 points) Teachers and administrators within each school support the proposed project and have been and will continue to be involved in its planning and development, including, particularly, those teachers who will be directly affected by the proposed project;

(2) (5 points) Parents, students, and other community stakeholders support the proposed project and have been and will continue to be involved in its planning and development;

(3) (5 points) The proposed project is consistent with, and will advance, State and local initiatives to increase student achievement and narrow gaps in achievement between all students and student subgroups; and

(4) (5 points) The applicant demonstrates that it has carried out sufficient planning and preparatory activities to enable it to begin to implement the proposed project at the beginning of the school year immediately following receipt of an award.

Quality of the Project Design (30 Points)

In determining the quality of the project design for the SLC project, we consider the extent to which—

(1) (5 points) The applicant will implement or expand strategies, new organizational structures, or other changes in practice that are likely to create an environment in which a core group of teachers and other adults within the school knows the needs, interests, and aspirations of each student well, closely monitors each student's progress, and provides the academic and other support each student needs to succeed;

(2) (5 points) The applicant proposes research-based strategies that are likely to improve overall student achievement and other outcomes (including graduation rates and enrollment in postsecondary education), narrow any gaps in achievement between all students and student subgroups, and address the particular needs identified by the school under the paragraph titled Need for the Project, such as—

(A) More rigorous academic curriculum for all students and the provision of academic support to struggling students who need assistance to master more challenging academic content;

(B) More intensive and individualized educational counseling and career and college guidance, provided through mentoring, teacher advisories, adult advocates, or other means;

(C) Strategies designed to increase average daily attendance, increase the percentage of students who transition from the 9th to 10th grade, and improve the graduation rate; and

(D) Expanding opportunities for students to participate in advanced placement courses and other academic and technical courses that offer both high school and postsecondary credit;

(3) (5 points) The applicant will implement accelerated learning strategies and interventions that will assist students who enter the school with reading/language or mathematics skills that are significantly below grade level and that—

(A) Are designed to equip participating students with grade-level reading/language arts and mathematics skills by no later than the end of the 10th grade;

(B) Are grounded in scientifically based research;

(C) Include the use of age-appropriate instructional materials and teaching and learning strategies;

(D) Provide additional instructional and academic support during the regular school day, which may be supplemented by instruction that is provided before or after school, on weekends, and at other times when school is not in session;

(E) Will be delivered with sufficient intensity to improve the reading/language arts or math skills, as appropriate, of participating students; and

(F) Include sustained professional development and ongoing support for teachers and other personnel who are responsible for delivering instruction;

(4) (5 points) The applicant will provide high-quality professional development throughout the project period that advances the understanding of teachers, administrators, and other school staff of effective, research-based instructional strategies for improving the academic achievement of students, including, particularly, students with academic skills that are significantly below grade level, and provide the knowledge and skills those staff need to participate effectively in the development, expansion, or implementation of an SLC;

(5) (5 points) The proposed project fits into a comprehensive district high school improvement strategy to increase the academic achievement of all district high school students, reduce gaps between the achievement of all students and student subgroups, and prepare students to enter postsecondary education or the workforce; and

(6) (5 points) The proposed project is part of a cohesive plan that uses funds provided under the ESEA, the Carl D. Perkins Vocational and Technical Education Act, or other Federal programs, as well as local, State, and private funds sufficient to ensure continuation of efforts after Federal support ends.

Quality of the Management Plan (20 Points)

In determining the quality of the management plan for the proposed project, we consider the following factors:

(1) (5 points) The adequacy of the proposed management plan to achieve the objectives of the proposed project on time and within budget, including clearly defined responsibilities and detailed timelines and milestones for accomplishing project tasks.

(2) (5 points) The extent to which time commitments of the project director and other key personnel are appropriate and adequate to implement the SLC project effectively.

(3) (5 points) The qualifications, including relevant training and experience, of the project director and other key personnel.

(4) (5 points) The adequacy of resources, including the extent to which the budget is adequate and costs are directly related to the objectives and SLC activities.

Quality of the SLC Project Evaluation (20 Points)

In determining the quality of the proposed project evaluation conducted by an independent, third-party evaluator, we consider the following factors:

(1) (5 points) The extent to which the methods of evaluation are thorough, feasible, and appropriate to the goals, objectives, and outcomes of the proposed SLC project.

(2) (5 points) The extent to which the evaluation will collect and report accurate qualitative and quantitative data that will be useful in assessing the success and progress of implementation, including, at a minimum—

(A) Measures of student academic achievement that provide data for the performance indicators identified in the application, including results that are disaggregated for economically disadvantaged students, students from major racial and ethnic groups, students with disabilities, students with limited English proficiency, and other subgroups identified by the applicant; and

(B) Other measures identified by the applicant in the application as performance indicators.

(3) (5 points) The extent to which the methods of evaluation will provide timely and regular feedback to the LEA and the school on the success and progress of implementation and identify areas for needed improvement.

(4) (5 points) The qualifications and relevant training and experience of the independent evaluator.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

Note: Requirements listed in the NFP are material requirements. Failure to comply with any requirement or with any elements of the grantee's application would subject the grantee to administrative action including, but not limited to, designation as a “high-risk” grantee, the imposition of special conditions, or termination of the grant. Circumstances that might cause the Department to take this action include, but are not limited to—the grantee showing a decline in student achievement after two years of implementation of the grant; the grantee's failure to make substantial progress in completing the milestones outlined in the management plan included in the application; and the grantee's expenditure of funds in a manner that is inconsistent with the budget as submitted in the application.

3. Reporting: At the end of your project period, you must submit a final performance report, including financial information, as directed by the Secretary. If you receive a multi-year award, you must submit an annual performance report that provides the most current performance and financial expenditure information as specified by the Secretary in 34 CFR 75.118. Additional reporting requirements are described elsewhere in this notice under section IV. Application and Submission Information, 2. Content and Form of Application Submission.

4. Performance Measures: The application requirements and other information related to performance indicators and objectives are described elsewhere in this notice under section IV. Application and Submission Information, 2. Content and Form of Application Submission.

VII. Agency Contact

FOR FURTHER INFORMATION CONTACT: Deborah Williams, U.S. Department of Education, 400 Maryland Avenue, SW., room 3W241, Washington, DC 20202-6200. Telephone: (202) 205-3783 or by e-mail: deborah.williams@ed.gov

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html

Dated: April 21, 2006.
Henry L. Johnson,
Assistant Secretary for Elementary and Secondary Education.

[FR Doc. 06-3928 Filed 4-25-06; 8:45 am]

BILLING CODE 4000-01-P